DEPARTMENT OF COMMERCE

Economic Development Administration

Notice of Petitions by Firms for Determination of Eligibility To Apply for Trade Adjustment Assistance

AGENCY: Economic Development Administration, Department of Commerce.

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat.

List of Petitions Received by EDA for Certification of Eligibility To Apply for Trade Adjustment
[February 1, 2008 through February 29, 2008]
Firm | Address | Date accepted for filing | Products
John J. Steuby Company | 6002 N. Lindbergh, Hazelwood, MO 63042 | 1/4/08 | Hardware to domestic markets.
Custom Manufacturing And Engineering | 7582 4th Avenue, Lino Lakes, MN 55014 | 1/7/08 | Designs and manufactures thermoplastic injections molded parts for the consumer and promotional goods.
The Toy Works, Inc | 101 Fiddler's Elbow Road, Middle Falls, NY 12848 | 2/4/08 | Hand printed gifts including doormats and door stops, kitchen textiles, mugs, decorative flags, canvas totes and decorative pillows.
Erisco Industries, Inc | 1133 West 18th Street, Erie, PA 16502 | 2/4/08 | Erisco produces steel wire and wire components.
Dasco Pro, Inc | 340 Blackhawk Park Ave, Rockford, IL 61104 | 2/4/08 | Manufacturing of hand and hand struck tools cast or machined from steel and steel carbides.
Young Furniture Manufacturing, Inc | 35 River Road, Bow, NH 03304 | 12/18/07 | Manufactures unfinished cabinetry, casework and built-ins on a custom basis.
A La Carte Foods, Inc | 278 Ideal Street, Paincourt, LA 70391 | 12/11/07 | Raw seafood products, condiments and packaging.
CenTex, Inc | 1301 N. Old Hwy 77 and 81 S., Hillsboro, TX 76645 | 12/7/07 | Processes and delints agricultural seed for commercial use.
Cable Manufacturing & Assembly Company, Inc | 10896 Industrial Parkway, NW, Bolivar, OH 44612 | 10/26/07 | Stranded cables, less than 3/8″ diameter, of steel and stainless steel.
AFC Stamping and Production | 4900 Webster Street, Dayton, OH 45414 | 12/21/07 | Metal stampings for the motor vehicle, appliance, medical device and other.
Scenic Fruit, Inc | 7510 SE. Altman Road, Gresham, OR 97080 | 12/27/07 | Frozen blackberries.
Carlton Company | 3901 SE. NAEF Road, Milwaukie, OR 97268 | 2/3/08 | Chain saw blades and parts, of base metal, not continuous lengths.
Denver Rubber Company | 2340 W. 2nd Avenue, Denver, CO 80223 | 1/31/08 | Manufactured products include squeeze assemblies, gaskets and industrial hose. Import impacted articles are gaskets and industrial hoses.
Metal West | 1229 South Fulton Avenue, Brighton, CO 80601 | 1/17/08 | Manufactures flat-rolled metal products.
Special Product Company | 8540 Hedge Lane Terrace Shawnee, KS 66227-3200 | 12/20/08 | Aluminum housings for telecommunication equipment.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in section 315.9 of EDA's final rule (71 FR 56704) for procedures for requesting a public hearing. The Catalog of Federal Domestic Assistance official program number and title of the program under which these petitions are submitted is 11.313, Trade Adjustment Assistance.

Dated: February 28, 2008.
William P. Kittredge,
Program Officer for TAA.

[FR Doc. E8-4209 Filed 3-4-08; 8:45 am]

BILLING CODE 3510-24-P